NATIONAL AERONAUTICS AND SPACE ADMINISTRATION

[Notice (04-065)]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: May 18, 2004.

FOR FURTHER INFORMATION CONTACT: Diana M. Cox, Patent Counsel, Goddard Space Flight Center, Mail Code 503, Greenbelt, MD 20771-0001; telephone (301) 286-7351; fax (301) 286-9502.

NASA Case No. GSC-14389-1: System And Method For Deriving A Process-Based Specification;

NASA Case No. GSC-14439-1: Spectral-Ratio Biospheric Lidar;

NASA Case No. GSC-14461-1: Space Qualified Local Area Network;

NASA Case No. GSC-14480-1: Partial Tooth Gear Bearings.

Dated: May 12, 2004.
Keith T. Sefton,
Chief of Staff, Office of the General Counsel.

[FR Doc. 04-11173 Filed 5-17-04; 8:45 am]

BILLING CODE 7510-01-P